DEPARTMENT OF HEALTH AND HUMAN SERVICES

Administration for Children and Families

Submission for OMB Review; Screening Tool for Unaccompanied Alien Children Program Staff and Visitors (New Collection)

AGENCY: Office of Refugee Resettlement, Administration for Children and Families, Health and Human Services (HHS).

ACTION: Request for public comment.

SUMMARY: The Office of Refugee Resettlement (ORR), Administration for Children and Families (ACF), U.S. Department of Health and Human Services (HHS), is proposing to continue use of a coronavirus (COVID-19) screening form for Unaccompanied Alien Children (UAC) program staff and visitors at ORR-funded programs. The form was originally approved under emergency approval for 6 months. ACF is requesting a 3-year extension of this information collection.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The COVID-19 risk questionnaire asks participants whether or not they display COVID-19 symptoms, whether or not they have had close contact with individuals known to test positive for COVID-19, and whether or not they have been tested for COVID-19. The questionnaire also requests temperature checks on individuals. This will help to reduce possible exposure to the virus and help protect the health and safety of both UAC and program staff.

Respondents: Staff and visitors at UAC program sites.

Annual Burden Estimates
Instrument | Total number of respondents | Annual responses per respondent | Average burden hours per response | Annual burden hours
UAC COVID-19 Risk Questionnaire | 15,000 | 260 | .033 | 128,700

Authority: 6 U.S.C. 279(b)(1)(B);(E).

Emily Ball Jabbour,
ACF/OPRE Certifying Officer.

[FR Doc. 2020-19024 Filed 8-27-20; 8:45 am]

BILLING CODE 4184-45-P